NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection notice is published to obtain comments from the public. This collection of information is related to NCUA's regulation on nondiscrimination requirements in real estate-related lending.

DATES: Comments will be accepted until October 28, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is reinstating a previously approved collection of information for 12 CFR 701.31, Nondiscrimination Requirements in Real Estate-Related Lending, Appraisals, and Advertising. Section 701.31 implements requirements of the Fair Housing Act, 42 U.S.C. 3601 et seq. It requires each Federal credit union (FCU) to maintain a copy of the real estate appraisal used to support an applicant's real estate-related loan application and to make it available to any requesting member/applicant for a period of 25 months. It also requires an FCU using geographic factors in evaluating real estate-related loan applications to disclose such fact on the appraisal, along with a statement demonstrating the necessity of using such factors. The FCU retains the appraisal with the noted factors in its records to prove compliance with nondiscrimination statutes and regulations. The FCU's borrowers and NCUA use the information to determine whether the FCU discriminates against certain borrowers. This regulation ensures compliance with the Fair Housing Act anti-redlining requirements.

The real estate appraisal is an integral part of most real estate-related loan transactions. The appraisal, factors affecting the appraisal, and record retention are all routinely included in most real estate-related loan transactions as a usual and customary industry practice. Therefore, any cost in time for the FCU is minimal. NCUA estimates that the time required for this collection of information is approximately one hour per year for each FCU. As of July 2, 2013, there were 4,220 FCUs that could make real estate-related loans. One hour × 4,220 respondents/recordkeepers = 4,220 total annual burden hours. NCUA does not believe that FCUs will incur any additional costs as a result of the recordkeeping requirement.

NCUA requests that you send your comments on the information collection requirement under section 701.31 to the locations listed in the addresses section. Your comments should address: (a) The necessity of the information collection for the proper performance of NCUA, including whether the information will have practical utility; (b) the accuracy of our estimate of the burden (hours and cost) of the collection of information, including the validity of the methodology and assumptions used; (c) ways we could enhance the quality, utility, and clarity of the information to be collected; and (d) ways we could minimize the burden of the collection of the information on the respondents such as through the use of automated collection techniques or other forms of information technology. It is NCUA's policy to make all comments available to the public for review.

II. Data

Title: Nondiscrimination Requirements in Real Estate-Related Lending, Appraisals, and Advertising, 12 CFR 701.31.

OMB Number: 3133-0068.

Form Number: None.

Type of Review: Reinstatement, with change, of a previously approved collection.

Description: Section 701.31 is NCUA's regulation implementing requirements of the Fair Housing Act, 42 U.S.C. 3601 et seq. It requires each FCU to maintain a copy of the real estate appraisal used to support an applicant's real estate-related loan application and to make it available to any requesting member/applicant for a period of 25 months. It also requires an FCU using geographic factors in evaluating real estate-related loan applications to disclose such fact on the appraisal, along with a statement demonstrating the necessity of using such factors. The FCU retains the appraisal with the noted factors in its records to prove compliance with nondiscrimination statutes and regulations. The FCU's borrowers and NCUA use the information to determine whether the FCU discriminates against certain borrowers. This regulation ensures compliance with the Fair Housing Act anti-redlining requirements.

Respondents: Federal Credit Unions.

Estimated Number of Respondents/Recordkeepers: 4,220.

Frequency of Response: Recordkeeping on occasion.

Estimated Burden Hours per Response: 1 hour.

Estimated Total Annual Burden Hours: 4,220 hours.

Estimated Total Annual Cost: $0.

By the National Credit Union Administration Board on September 20, 2013.
Gerard Poliquin,
Secretary of the Board.

[FR Doc. 2013-23477 Filed 9-25-13; 8:45 am]

BILLING CODE 7535-01-P